DEPARTMENT OF ENERGY

Federal Energy Regulatory Commission

[Project No. 1250-020; Project No. 14836-000]

City of Pasadena Water and Power Department; Notice of Teleconference for Section 106 of the National Historic Preservation Act Consultation Meeting

a. Project Name and Numbers: Azusa Project and Azusa Powerhouse Hydroelectric Project Nos. 1250 and 14836.

b. Project licensee: City of Pasadena Water and Power Department.

c. Date and Time of Teleconference: Tuesday, April 25, 2023, from 1:00 p.m. to 2:30 p.m. Eastern Daylight Time.

d. FERC Contact: Jennifer Polardino, (202) 502-6437 or jennifer.polardino@ferc.gov.

e. Purpose of Meeting: Commission staff will participate in a teleconference with the City of Pasadena Water and Power Department, the California State Historic Preservation Office (California SHPO), the City of Pasadena, and the U.S. Department of Agriculture's Forest Service (Forest Service) to discuss the draft Programmatic Agreement and draft Historic Properties Management Plan for the proposed surrender of license for the Azusa Project No. 1250 and the proposed exemption from licensing for the Azusa Powerhouse Hydroelectric Project No. 14836. The projects are located on the San Gabriel River in Los Angeles County, California. The Azusa Project occupies lands of the United States within Angeles National Forest administered by the Forest Service.

f. Members of the public and intervenors in the referenced proceedings may attend the teleconference; however, participation will be limited to representatives from the City of Pasadena, the California SHPO, the Forest Service, and the Commission. If during the call any party decides to disclose information about a specific location which could create a risk or harm to an archaeological site or Native American cultural resource, the public will be excused for that portion of the meeting and can return to the call after such information is disclosed. The teleconference meeting will be transcribed by a court reporter and the transcript will be placed in the public record.

g. Please call or email Jennifer Polardino at (202) 502-6437 or jennifer.polardino@ferc.gov by Monday, April 24, 2022, to RSVP and to receive the teleconference call-in information.

Dated: April 3, 2023.
Kimberly D. Bose,
Secretary.

[FR Doc. 2023-07385 Filed 4-6-23; 8:45 am]

BILLING CODE 6717-01-P